NEIGHBORHOOD REINVESTMENT CORPORATION

Neighborworks® America; Regular Board of Directors Meeting; Sunshine Act

Time & Date: 2 p.m., Tuesday, December 16, 2008.

Place: 1325 G Street NW, Suite 800, Boardroom, Washington, DC 20005.

Status: Open.

Contact Person For More Information: Erica Hall, Assistant Corporate Secretary. (202) 220-2376; ehall@nw.org.

Agenda:

I. Call to Order.

II. Approval of the Minutes.

III. Summary Report of the Audit Committee.

IV. Summary Report of the Finance, Budget and Program Committee.

V. Summary Report of the Finance, Budget and Program Committee.

VI. Resolution.

VII. Financial Report (Unaudited).

VIII. Corporate Scorecard.

IX. Chief Executive Officer's Quarterly Management Report.

X. Adjournment.

Erica Hall,
Assistant Corporate Secretary.

[FR Doc. E8-30032 Filed 12-15-08; 11:15 am]

BILLING CODE 7570-02-P